ELECTION ASSISTANCE COMMISSION

Sunshine Act Meetings: Board of Advisors 2024 Annual Meeting

AGENCY: Election Assistance Commission.

ACTION: Sunshine Act notice; notice of public meeting agenda.

SUMMARY: Public Meeting: U.S. Election Assistance Commission Board of Advisors 2024 Annual Meeting.

DATES: Thursday, April 18, 2024 8:30 a.m.-4:00 p.m. Central and Friday, April 19, 2024 9:00 a.m.-11:45 a.m. Central.

ADDRESSES: The Fontaine Hotel, 901 W 48th Place, Kansas City, Missouri 64112.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an annual meeting of the EAC Board of Advisors to conduct regular business, discuss EAC updates and upcoming programs, and other relevant election topics.

Background: HAVA designates the Board of Advisors to assist EAC in carrying out its mandates under the law. The board consists of 35 members composed of representatives from specified associations, organizations, federal departments, and members of Congress.

Agenda: The U.S. Election Assistance Commission (EAC) Board of Advisors will hold their 2024 Annual Meeting primarily to conduct regular business, learn about EAC agency developments, ethical standards for election administration, discuss elections administration in 2024, and more. This meeting will include question and answer discussions between board members and EAC staff. The Board will also vote to elect members to Executive Officer positions and consider amendments to the governing Bylaws.

The EAC will only accept written comments and questions from members of the public. If you would like to participate, please email clearinghouse@eac.gov with your full name and question or comment no later than 5:00 p.m. Central Time on April 17, 2024.

The full agenda will be posted in advance on the EAC website: www.eac.gov/events/2024/04/18/2024-eac-board-advisors-annual-meeting.

Status: This meeting will be open to the public.

Camden Kelliher,
Acting General Counsel, U.S. Election Assistance Commission.

[FR Doc. 2024-06310 Filed 3-21-24; 11:15 am]

BILLING CODE 4810-71-P